DEPARTMENT OF HEALTH AND HUMAN SERVICES

Centers for Disease Control and Prevention

[30 Day-10-0783]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Evaluation of Safe Dates Project—(OMB No. 0920-0783 exp. 6/30/2011)—Revision—National Center for Injury Prevention and Control (NCIPC), Centers for Disease Control and Prevention (CDC).

Background and Brief Description

Safe Dates, a dating violence prevention curriculum for 8th and 9th grade students, has been shown to be effective at preventing victimization and perpetration of teen dating violence in one rural North Carolina school district, but appropriateness of the program with urban, high-risk adolescents is unknown. The data collection will require participation from teachers at eight schools who delivered the Safe Dates program and students at one school who received the program. Qualitative data will be collected through student focus groups and teacher interviews. Students will complete a participant profile form to capture basic demographic information. The specific aim of this study is to assess whether the Safe Dates adolescent dating violence prevention program needs modification/adaptation for urban, high-risk adolescents.

Approximately 40 students at one school will participate in focus groups. Two focus groups will consist of 8-10 boys, and two focus groups will include 8-10 girls. Informed written consent from parents for each student's participation and informed written assent from tenth graders for their own participation will be obtained. Twenty teachers will participate in interviews. Students and teachers will be asked about their experiences with the Safe Dates program and ideas they may have about adapting the program for urban schools.

Data collection will occur in July 2010. It is anticipated that study results will be used to determine whether the Safe Dates program should be modified for an urban, high-risk population. There is no cost to respondents other than their time. The total estimated annual burden hours are 849.

Estimated Annualized Burden Hours
Type of respondent | Instrument name | Number of respondents | Number of responses per respondent | Average burden per respondent (in hours) | Total response burden (hours)
Student | Effectiveness follow-up survey | 1,318 | 1 | 35/60 | 769
| Focus group guide and participant profile form | 40 | 1 | 1.5 | 60
Teacher | Interview guide | 20 | 1 | 1 | 20

Dated: August 3, 2010.
Maryam I. Daneshvar,
Reports Clearance Officer, Centers for Disease Control and Prevention.

[FR Doc. 2010-19555 Filed 8-6-10; 8:45 am]

BILLING CODE 4163-18-P